DEPARTMENT OF JUSTICE

Notice of Lodging of Proposed Consent Decree Under the Clean Air Act

On March 31, 2023, the Department of Justice lodged a proposed Consent Decree with the United States District Court for the Central District of Illinois in the lawsuit entitled United States v. River City Diesel LLC et al., Civil Action No. 1:22-cv-01289-JES-JEH.

The proposed Consent Decree resolves claims in the Complaint, filed on August 30, 2022, in this matter which sought injunctive relief and civil penalties for violations of Title II of the Clean Air Act by River City Diesel, LLC (“RCD”), RCD Performance, LLC (“RCDP”), Midwest Truck and 4WD Center, LLC (“Midwest Truck”), and Joshua L. Davis (collectively, “Defendants”). The alleged violations relate to the manufacture, sale, and installation of aftermarket products for motor vehicles or motor vehicle engines and for tampering with motor vehicles and motor vehicle engines. The Complaint also alleged fraudulent transfers intended to avoid a debt of the United States in violation of the Federal Debt Collection Procedures Act. 28 U.S.C. 3304(b)(2); 28 U.S.C. 3304(b)(1)(A). The proposed Consent Decree requires injunctive relief and payment of a civil penalty of $600,000, which is based on Defendants' financial situation, to be made in two equal payments.

The publication of this notice opens a period for public comment on the proposed Consent Decree. Comments should be addressed to the Assistant Attorney General of the Environment and Natural Resources Division, Todd Kim, and should refer to United States v. River City Diesel LLC et al., D.J. Ref. No. 90-5-2-1-12233. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611

During the public comment period, the Consent Decree may be examined and downloaded at this Justice Department website: http://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $16.25 (25 cents per page reproduction cost) payable to the United States Treasury.

Patricia McKenna,
Assistant Section Chief, Environmental Enforcement Section, Environment and Natural Resources Division.

[FR Doc. 2023-07158 Filed 4-5-23; 8:45 am]

BILLING CODE 4410-15-P